DEPARTMENT OF DEFENSE

Department of the Air Force

Notice of Intent To Grant an Exclusive Patent License

AGENCY: Department of the Air Force, Department of Defense.

ACTION: Notice of intent.

SUMMARY: Pursuant to the Bayh-Dole Act, and implementing regulations, the Department of the Air Force hereby gives notice of its intent to grant an exclusive patent license agreement to Integrated Icing Solutions, LLC, a corporation of the State of Oklahoma, having a place of business at 4301 SW 29th Street, Oklahoma City, OK 73119.

DATES: Written objections must be filed no later than fifteen (15) calendar days after the date of publication of this Notice.

ADDRESSES: Submit written objections to the Jeffrey Bamber, Air Force Materiel Command Law Office, AFMCLO/JAZ, 2240 B Street, Room 260, Wright-Patterson AFB, OH 45433-7109; Facsimile: (937) 255-3733; or Email: afmclo.jaz.tech@us.af.mil. Include Docket No. AFS-201113A-PL in the subject line of the message.

FOR FURTHER INFORMATION CONTACT: Jeffrey Bamber, Air Force Materiel Command Law Office, AFMCLO/JAZ, 2240 B Street, Rm 260, Wright-Patterson AFB, OH 45433-7109; Telephone: (937) 904-5787; Facsimile: (937) 255-3733; Email: afmclo.jaz.tech@us.af.mil.

SUPPLEMENTARY INFORMATION: The Department of the Air Force intends to grant the exclusive patent license agreement for the invention described in: U.S. Patent Application Serial No. 63/109,883, entitled “Ice Detection and Precautionary System Shut-Down Event Reduction Systems and Related Methods”, filed November 5, 2020.

Abstract of patent application: An ice detection and precautionary system shut-down event reduction system and related methods are provided. Embodiments include an ice detection sensor array positioned in proximity to a jet engine test cell inlet. The sensor array can include a plurality of ice detection sensor array sensors including ice, static pressure, total pressure, and temperature as well as a second set of sensors position in proximity with a jet engine air inlet, where the second set of sensors include another temperature, static pressure, and total pressure sensor. The embodiment further includes a control section that receives inputs from the sensor array sensors and second set of sensors and performs comparisons of inputs from these sensors against each other and stored values to determine actual icing conditions then generate warnings on a display to an operator. The exemplary control section has multiple modes including manual, semi-manual and automatic.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2020-27697 Filed 12-15-20; 8:45 am]

BILLING CODE 5001-10-P